DEPARTMENT OF COMMERCE

International Trade Administration

Application for Duty-Free Entry of Scientific Instrument

Pursuant to Section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW, Washington, DC.

Docket Number: 02-007. Applicant: National Institutes of Health, NIAMS/LSBR, 6 Center Drive, Building 6, Room B2-34, Bethesda, MD 20892-2717. Instrument: Electron Microscope, Model Tecnai 30 He. Manufacturer: FEI Company, The Netherlands. Intended Use: The instrument is intended to be used to collect state-of-the-art cryo-electron microscopy for a variety of projects aimed at determining the structures of macromolecular complexes at high spatial resolution. Two immediate projects are Capsid Assembly of Hepatitis B Virus and Maturation of Bacteriophage Capsids. Application accepted by Commissioner of Customs: March 5, 2002.

Gerald A. Zerdy,
Program Manager, Statutory Import Programs Staff.

[FR Doc. 02-8074 Filed 4-2-02; 8:45 am]

BILLING CODE 3510-DS-P